DEPARTMENT OF COMMERCE

International Trade Administration

A-423-808

Stainless Steel Plate in Coils from Belgium: Final Results of Antidumping Duty Administrative Review

AGENCY: Import Administration, International Trade Administration, U.S. Department of Commerce.

SUMMARY: On June 3, 2005, the Department of Commerce (the Department) published the preliminary results of the fifth administrative review of the antidumping duty order on stainless steel plate in coils (SSPC) from Belgium. See Stainless Steel Plate in Coils from Belgium: Preliminary Results of Antidumping Duty Review, 70 FR 32573 (June 3, 2005) (“Preliminary Results”). This review covers one producer/exporter, Ugine & ALZ Belgium, NV (U&A Belgium), of the subject merchandise. The period of review (POR) is May 1, 2003, through April 30, 2004. Based on our analysis of the comments received, we have made changes to the Preliminary Results. For the final dumping margins see the “Final Results of Review” section below.

EFFECTIVE DATE: December 7, 2005.

FOR FURTHER INFORMATION CONTACT: Toni Page or Scott Lindsay at (202) 482-1398 or (202) 482-0780, respectively; Office of AD/CVD Operations 6, Import Administration, International Trade Administration, U.S. Department of Commerce, 14th Street and Constitution Avenue, NW, Washington DC 20230.

SUPPLEMENTARY INFORMATION:

Background

On June 3, 2005, the Department published in the Federal Register the preliminary results of the fifth administrative review of the antidumping duty order on SSPC from Belgium. See Preliminary Results. Since the Preliminary Results, the following events have occurred. On July 14, 2005, U&A Belgium (Respondent) requested that the Department extend the due dates for briefs until July 22, 2005, and rebuttal briefs until July 27, 2005. Based on the reasons in Respondent's letter, the Department extended the deadline for briefs until July 22, 2005, and the rebuttal briefs until July 29, 2005. Case briefs from Respondent and Allegheny Ludlum, AK Steel Corporation, Butler Armco Independent Union, United Steelworkers of America, AFL-CIO/CLC, and Zanesville Armco Independent Organization (collectively, Petitioners) were timely filed.

In the Preliminary Results, the Department stated that it would issue a supplemental questionnaire to Respondent requesting that it clarify a difference between the volume of sales reported in its database, and the volume and value of entries observed by the Department from U.S. Customs and Border Protection (CBP) data. The Department issued three supplemental questionnaires on this issue and received responses from Respondent on July 1, 2005, to the Department's May 27, 2005 questionnaire; August 19, 2005, to the Department's August 2, 2005 questionnaire; and September 21, 2005, and September 27, 2005, (in two parts) to the Department's September 13, 2005 questionnaire. Petitioners commented on these responses on September 28, 2005, and October 11, 2005. Three of these supplemental questionnaire responses were received after the due dates for case and rebuttal briefs. As such, on October 28, 2005, we established a briefing schedule for the issues that surfaced as a result of Respondent's questionnaire responses being submitted after the Preliminary Results. On November 4, 2005, and November 9, 2005, we received briefs and rebuttal briefs for the issues raised in Respondent's supplemental questionnaire responses.

Analysis of Comments Received

The issues raised in all case briefs, rebuttal briefs, and additional comments by parties to this administrative review are addressed in the Issues and Decision Memorandum for the Final Results of the Fifth Administrative Review of the Antidumping Duty Order on Stainless Steel Plate in Coils from Belgium, from Stephen J. Claeys, Deputy Assistant Secretary for Import Administration to Joseph A. Spetrini, Acting Assistant Secretary for Import Administration (November 30, 2005) (Decision Memorandum), which is hereby adopted by this notice. A list of the issues addressed in the Decision Memorandum is appended to this notice. The Decision Memorandum is on file in the Central Records Unit (CRU), room B-099 of the Department of Commerce main building and can be accessed directly at http://ia.ita.doc.gov/frn. The paper copy and electronic version of the Decision Memorandum are identical in content.

Scope of the Antidumping Duty Order

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) Plate not in coils; (2) Plate that is not annealed or otherwise heat treated and pickled or otherwise descaled; (3) Sheet and strip; and (4) Flat bars.

The merchandise subject to this order is currently classifiable in the Harmonized Tariff Schedule of the United States (HTSUS) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the merchandise subject to these orders is dispositive.

Changes Since the Preliminary Results

Based on our analysis of the comments received, we have made changes in the calculations for the final dumping margin. The changes made since the Preliminary Results are listed under the “List of Issues” which is appended to this notice. The changes are discussed in detail in the Decision Memorandum and the Memorandum to the File Through Thomas Gilgunn from Toni Page and Scott Lindsay: Analysis for Ugine & ALZ, N.V. Belgium (U&A Belgium) for the Final Results of the Fifth Administrative Review of Stainless Steel Plate in Coils (SSPC) from Belgium (November 30, 2005) (Final Analysis Memo).

Use of Facts Available

The record of this review shows that Respondent did not report certain sales of SSPC with a nominal thickness of 4.75 mm or greater. Section 776(a)(2)(A) of the Act provides that the Department shall use facts otherwise available if a respondent “withholds information that has been requested by the administering authority.” Since Respondent has withheld information requested by the Department, the application of partial facts otherwise available under section 776(a)(2)(A) of the Act is warranted. However, we note that Respondent's decision to exclude sales of nominal SSPC in this review relied, in part, on the Department's acceptance of Respondent's exclusion of nominal SSPC sales in prior reviews of this order. As such, the Department is not applying adverse facts available pursuant to section 776(b) of the Act. See the Decision Memorandum at Comment 9 for a more complete discussion of the Department's analysis. As partial facts available, we have applied the weighted-averaged margin calculated using U&A Belgium's reported U.S. sales to U&A Belgium's unreported sales of nominal SSPC.

For a more complete discussion of the Department's use of partial facts otherwise available, see the public version of Final Analysis Memo.

Final Results of Review

As a result of our review, we determine that the following weighted-average margin exists for the period May 1, 2003, through April 30, 2004:

Manufacturer/Exporter | Margin (percent)
Ugine & ALZ Belgium, NV | 2.96

Duty Assessment

The Department shall determine and CBP shall assess antidumping duties on all appropriate entries. Pursuant to 19 CFR 351.212(b)(1), the Department calculates an assessment rate for each importer of the subject merchandise for each respondent. Upon issuance of the final results of this administrative review, if any importer-specific assessment rates calculated in the final results are above de minimis (i.e., at or above 0.5 percent), the Department will issue appraisement instructions directly to CBP to assess antidumping duties on appropriate entries.

To determine whether the duty assessment rates covering the period were de minimis, in accordance with the requirement set forth in 19 CFR 351.106(c)(2), for each respondent we calculated importer (or customer)- specific ad valorem rates by aggregating the dumping margins calculated for all U.S. sales to that importer or customer and dividing this amount by the total value of the sales to that importer (or customer). Where an importer (or customer)-specific ad valorem rate is greater than de minimis, and the respondent has reported reliable entered values, we apply the assessment rate to the entered value of the importer's/customer's entries during the review period. Where an importer (or customer)- specific ad valorem rate is greater than de minimis and we do not have reliable entered values, we calculate a per-unit assessment rate by aggregating the dumping duties due for all U.S. sales to each importer (or customer) and dividing this amount by the total quantity sold to that importer (or customer). The Department will issue appropriate assessment instructions directly to CBP within 15 days of the final results of this review.

Cash Deposit Requirements

The following antidumping duty deposit rates will be effective upon publication of the final results of this administrative review for all shipments of SSPC from Belgium entered, or withdrawn from warehouse, for consumption on or after the publication date of these final results, as provided for by section 751(a)(1) of the Act: (1) for U&A Belgium, the cash deposit rate will be the rate established in the final results of this review; (2) if the exporter is not a firm covered in this review, but was covered in a previous review or the original less-than-fair-value (LTFV) investigation, the cash deposit rate will continue to be the company-specific rate established for the most recent period; (3) if the exporter is not a firm covered in this review, a prior review, or the LTFV investigation, but the manufacturer is, the cash deposit rate will be the rate established for the most recent period for the manufacturer of the subject merchandise; and (4) if neither the exporter nor the manufacturer is a firm covered by this review, a prior review, or the LTFV investigation, the cash deposit rate shall be the all others rate established in the LTFV investigation, which is 9.86 percent ad valorem, the “all others” rate. See Notice of Final Determination of Sales at Less Than Fair Value: Stainless Steel Plate in Coils from Belgium, 64 FR 15476 (March 31, 1999). These deposit rates, when imposed, shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (APO) of their responsibility concerning the disposition of proprietary information disclosed under APO in accordance with 19 CFR 351.305(a)(5). Timely written notification of the return/destruction of APO materials or conversion to judicial protective order is hereby requested. Failure to comply with the regulations and terms of an APO is a sanctionable violation.

This administrative review and notice are in accordance with sections 751(a)(1) and 777(i)(1) of the Act.

Dated: November 30, 2005.
Stephen J. Claeys,
Acting Assistant Secretary for Import Administration.

APPENDIX

List of Issues

1. Major Inputs

2. U.S. Warehousing Expenses

3. Offsetting Margins with Above-Normal-Value Transactions

4. Prime and Non-Prime Merchandise

5. Revised Entered Values

6. CEP Offset

7. Duty Assessment

8. Whether Sales of SSPC with a Nominal Thickness of 4.75 mm or Greater Regardless of Actual Thickness Should Have Been Reported

9. Application of Facts Available

[FR Doc. 05-23740 Filed 12-6-05; 8:45 am]

BILLING CODE 3510-DS-S